DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the name of a person whose property and interests in property have been unblocked and removed from the list of Specially Designated Nationals and Blocked Persons. Additionally, OFAC is publishing an update to the identifying information of a person currently included in the list of Specially Designated Nationals and Blocked Persons.

DATES: See SUPPLEMENTARY INFORMATION section.

FOR FURTHER INFORMATION CONTACT: OFAC: Associate Director for Global Targeting, tel: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On April 26, 2018, OFAC determined that the property and interests in property of the following person are unblocked and removed from the SDN List under the relevant sanctions authority listed below.

Entity

1. ENVIGADO FUTBOL CLUB S.A. (a.k.a. ENVIGADO F.C.), Carrera 48 No. 46 Sur 150, Envigado, Antioquia, Colombia; website www.envigadofutbolclub.net; NIT # 900470848-9 (Colombia) [SDNTK].

Additionally, on April 26, 2018, OFAC updated the SDN List for the following person, whose property and interests in property subject to U.S. jurisdiction continue to be blocked under the relevant sanctions authority listed below.

Individual

1. UPEGUI GALLEGO, Juan Pablo; DOB 16 Oct 1980; POB Itagui, Antioquia, Colombia; citizen Colombia; Cedula No. 3391839 (Colombia) (individual) [SDNTK] (Linked To: ENFARRADOS COMPANY S.A.S.; Linked To: CENTRO DE DIAGNOSTICO AUTOMOTOR DEL SUR LTDA.).

Dated: April 26, 2018.
Gregory T. Gatjanis,
Associate Director, Office of Global Targeting, Office of Foreign Assets Control.

[FR Doc. 2018-09386 Filed 5-2-18; 8:45 am]

BILLING CODE 4810-AL-P